NATIONAL TRANSPORTATION SAFETY BOARD

Sunshine Act Meeting Agenda

Time and Date: 9:30 a.m., Thursday, June 14, 2007.

Place: NTSB Conference Center, 429 L'Enfant Plaza, SW., Washington, DC 20594.

Status: The two items are open to the public.

Matters to be Considered: 7896 Pipeline Accident Brief and Safety Recommendation Letters—Anhydrous Ammonia Pipeline Rupture Near Kingman, Kansas, October 27, 2004.

7856 A Marine Accident Report—Fire Aboard Construction Barge Athena 106, West Cote Blanche Bay, Louisiana, October 12, 2006.

News Media Contact

Telephone: (202) 314-6100.

Individuals requesting specific accommodations should contact Chris Bisett at (202) 314-6305 by Friday, June 8, 2007.

The public may view the meeting via a live or archived webcast by accessing a link under “News & Events” on the NTSB home page at www.ntsb.gov.

FOR FURTHER INFORMATION CONTACT: Vicky D'Onofrio, (202) 314-6410.

Dated: June 1, 2007.
Vicky D'Onofrio,
Federal Register Liaison Officer.

[FR Doc. 07-2820 Filed 6-1-07; 3:05 pm]

BILLING CODE 7533-07-M